DEPARTMENT OF COMMERCE

Submission for OMB Review; Comment Request

The Department of Commerce will submit to the Office of Management and Budget (OMB) for clearance the following proposal for collection of information under the provisions of the Paperwork Reduction Act of 1995, Public Law 104-13.

Bureau: International Trade Administration (ITA).

Title: Information for Self-Certification under FAQ 6 of the United States-European Union Safe Harbor Privacy Framework.

Agency Form Number: None.

OMB Number: 0625-0239.

Type of Request: Regular submission.

Burden Hours: 350.

Number of Respondents: 500.

Average Hours Per Response: 20-40 minutes.

Needs and Uses: In response to the European Union Directive on Data Protection that restricts transfers of personal information from Europe to countries whose privacy practices are not deemed “adequate,” the U.S. Department of Commerce has developed a “Safe Harbor” framework that will allow U.S. organizations to satisfy the European Directive's requirements and ensure that personal data flows to the United States are not interrupted. In this process, the Department of Commerce repeatedly consults with U.S. organizations affected by the European Directive and interested non-government organizations. The Safe Harbor framework bridges the differences between the European Union (EU) and U.S. approaches to privacy protection. The complete set of Safe Harbor documents and additional guidance materials may be found at http://export.gov/safeharbor.

The Department of Commerce created a list for U.S. organizations to sign up to the Safe Harbor and provides guidance on the mechanics of signing up to this list. As of January 31, 2007, 1,100 U.S. organizations have been placed on the Safe Harbor List, located at http://export.gov/safeharbor. Organizations that have signed up to this list are deemed “adequate” under the Directive and do not have to provide further documentation to European officials. This list will be used by EU organizations to determine whether further information and contracts will be needed for a U.S. organization to receive personally identifiable information. Personally identifiable information is defined as any that can be identified to a specific person, for example an employee's name and extension would be considered personally identifiable information. All 27 member countries are bound by the European Commission's finding of “adequacy.” The Safe Harbor also eliminates the need for prior approval to begin data transfers, or makes approval from the appropriate EU member countries automatic.

Affected Public: Business or other for-profit organizations.

Frequency: Annually.

Respondent's Obligations: Voluntary.

OMB Desk Officer: David Rostker, (202) 395-3897.

Copies of the above information collection proposal can be obtained by writing Diana Hynek, Departmental Paperwork, Clearance Officer, Department of Commerce, Room 6625, 14th & Constitution Avenue, NW., Washington, DC 20230 or via the Internet at dHynek@doc.gov.

Written comments and recommendations for the proposed information collection should be sent within 30 days of the publication of this notice to David Rostker, OMB Desk Officer at David_Rostker@omb.eop.gov or fax (202) 395-7285 in the Federal Register.

Dated: June 21, 2007.
Gwellnar Banks,
Management Analyst, Office of the Chief Information Officer.

[FR Doc. E7-12383 Filed 6-26-07; 8:45 am]

BILLING CODE 3510-DR-P